ENVIRONMENTAL PROTECTION AGENCY

[FRL-8918-7]

Clean Air Act Operating Permit Program; Petition for Objection to Federal Operating Permit for The Premcor Refining Group, Inc.

AGENCY: Environmental Protection Agency (EPA).

ACTION: Notice of final action.

SUMMARY: This document announces that the EPA Administrator has responded to a citizen petition asking EPA to object to the Premcor Refining Group Inc., (Premcor) title V operating permit issued by the Texas Commission on Environmental Quality (TCEQ). Specifically, the Administrator has partially granted and partially denied the petition submitted by Environmental Integrity Project, the Community In-Power Development Association, Inc., Public Citizen's Texas Office, and the Refinery Reform Campaign (Petitioners), to object to the permit for Premcor to operate its refinery in Port Arthur, Texas.

Pursuant to section 505(b)(2) of the Clean Air Act (Act), the petitioner may seek judicial review of those portions of the petition which EPA denied in the United States Court of Appeals for the appropriate circuit. Any petition for review shall be filed within 60 days from the date this notice appears in the Federal Register, pursuant to section 307 of the Act.

ADDRESSES: You may review copies of the final order, the petition, and other supporting information at EPA Region 6, 1445 Ross Avenue, Dallas, Texas 75202-2733. EPA requests that if at all possible, you contact the individual listed in the FOR FURTHER INFORMATION CONTACT section to view copies of the final order, petition, and other supporting information. If you wish to examine these documents, you should make an appointment at least 24 hours before visiting day. The final order is also available electronically at: http://www.epa.gov/region07/programs/artd/air/title5/petitiondb/petitions/premcor_portarthur_response2007.pdf.

FOR FURTHER INFORMATION CONTACT: Bonnie Braganza, Air Permits Section, Multimedia Planning and Permitting Division, EPA Region 6, 1445 Ross Avenue, Dallas, Texas 75202-2733, telephone (214) 665-7340, or e-mail at braganza.bonnie@epa.gov.

SUPPLEMENTARY INFORMATION: The Act affords EPA a 45-day period to review, and, as appropriate, object to operating permits proposed by State permitting authorities under title V of the Act. Section 505(b)(2) of the Act authorizes any person to petition the EPA Administrator within 60 days after the expiration of this review period to object to title V operating permits if EPA has not done so. Petitions must be based only on objections to the permit that were raised with reasonable specificity during the public comment period provided by the State, unless the petitioner demonstrates that it was impracticable to raise these issues during the comment period or the grounds for the issues arose after this period.

On February 16, 2007, EPA received a petition from the Petitioners requesting that EPA object to the issuance of the title V operating permit to Premcor for the operation of its refinery in Port Arthur, Texas. First, the petitioners claim that the proposed permit lacks monitoring, recordkeeping, and reporting sufficient to assure compliance with all emission limitations and other substantive Clean Air Act requirements. Specifically the petitioners cite numerous monitoring, recordkeeping, and reporting deficiencies in the underlying permits and permits by rule that are incorporated by reference into the title V permit.

Second, the petitioners claim that the extensive use of incorporation by reference for emission limitations and standards violates title V of the Act and its implementing regulations at 40 CFR part 70, thereby rendering the permit practically unenforceable. The petitioners claim that the use of incorporation by reference makes it practically impossible for the public to discover the requirements of the permit, which defeats the intention of the title V program. Further, the petitioners claim that there is inadequate guidance as to where the referenced permits may be found and they were unable to obtain complete or current copies of a number of the underlying permits from TCEQ.

On May 28, 2009, the Administrator issued an order partially granting and partially denying the petition. The order explains the reasons behind EPA's conclusion to partially grant and partially deny the petition for objection.

Dated: June 5, 2009.
Lawrence E. Starfield,
Acting Regional Administrator, Region 6.

[FR Doc. E9-14008 Filed 6-12-09; 8:45 am]

BILLING CODE 6560-50-P